DEPARTMENT OF ENERGY

Federal Energy Regulatory Commission

[Project No. 14642-000]

San Diego County Water Authority, City of San Diego; Notice of Intent To File License Application, Filing of Pre-Application Document, and Approving Use of the Traditional Licensing Process

a. Type of Filing: Notice of Intent to File License Application and Request to Use the Traditional Licensing Process.

b. Project No.: 14642-000

c. Date Filed: July 28, 2015

d. Submitted By: San Diego County Water Authority and City of San Diego

e. Name of Project: San Vicente Pumped Storage Project

f. Location: Located near the community of Lakeside within San Diego County, California. The project occupies approximately 47 acres of United States lands administered by the Miramar Marine Corps Air Station.

g. Filed Pursuant to: 18 CFR 5.3 of the Commission's regulations

h. Potential Applicant Contact: 1) Frank Belock, San Diego County Water Authority, 4677 Overland Avenue, San Diego, CA 92123; (858) 522-6600; and 2) Robert Mulvey, City of San Diego, Public Utilities Department, 9192 Topaz Way, San Diego, CA 92123-1117; (858) 292-6418.

i. FERC Contact: Claire McGrath at (202) 502-8290; or email at claire.mcgrath@ferc.gov.

j. The San Diego County Water Authority and City of San Diego filed their request to use the Traditional Licensing Process on July 28, 2015. The San Diego County Water Authority and City of San Diego provided public notice of their request on July 28, 2015. In a letter dated September 28, 2015, the Director of the Division of Hydropower Licensing approved the San Diego County Water Authority and City of San Diego's request to use the Traditional Licensing Process.

k. With this notice, we are initiating informal consultation with the U.S. Fish and Wildlife Service under section 7 of the Endangered Species Act and the joint agency regulations thereunder at 50 CFR part 402. We are also initiating consultation with the California State Historic Preservation Officer, as required by section 106, National Historic Preservation Act, and the implementing regulations of the Advisory Council on Historic Preservation at 36 CFR 800.2.

l. With this notice, we are designating the San Diego County Water Authority and City of San Diego as the Commission's non-federal representatives for carrying out informal consultation pursuant to section 7 of the Endangered Species Act; and consultation pursuant to section 106 of the National Historic Preservation Act.

m. The San Diego County Water Authority and City of San Diego filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h. Register online at http://www.ferc.gov/docs-filing/esubscription.asp to be notified via email of new filing and issuances related to this or other pending projects. For assistance, contact FERC Online Support.

Dated: September 28, 2015.
Kimberly D. Bose,
Secretary.

[FR Doc. 2015-25033 Filed 10-1-15; 8:45 am]

BILLING CODE 6717-01-P